DEPARTMENT OF HEALTH AND HUMAN SERVICES

Administration for Community Living

Agency Information Collection Activities; Proposed Collection; Comment Request; Data Collection Materials for the Evaluation of the Administration for Community Living's American Indian, Alaska Natives and Native Hawaiian Programs (OAA Title VI)

AGENCY: Administration for Community Living, HHS.

ACTION: Notice.

SUMMARY: The Administration for Community Living (ACL) is announcing that the proposed collection of information listed above has been submitted to the Office of Management and Budget (OMB) for review and clearance as required under section 506(c)(2)(A) of the Paperwork Reduction Act of 1995. This 30-Day notice collects comments on the information collection requirements related to a new collection (ICR New).

DATES: Submit written or electronic comments on the collection of information by July 20, 2017.

ADDRESSES: Submit written comments on the collection of information by fax 202.395.5806 or by email to OIRA_submission@omb.eop.gov, Attn: OMB Desk Officer for ACL; or by mail to the Office of Information and Regulatory Affairs, OMB, New Executive Office Bldg., 725 17th St. NW., Rm. 10235, Washington, DC 20503, Attn: OMB Desk Officer for ACL.

FOR FURTHER INFORMATION CONTACT: Kristen Hudgins, 202-795-7732; email: kristen.hudgins@acl.hhs.gov.

SUPPLEMENTARY INFORMATION: In compliance with 44 U.S.C. 3507, ACL has submitted the following proposed collection of information to OMB for review and clearance.

The Data Collection Materials for the Evaluation of the Administration for Community Living's American Indian, Alaska Natives and Native Hawaiian Programs (OAA Title VI) is a new data collection (ICR-New) that will include focus groups for elders and caregiver program participants, interviews with Title VI staff, and a survey for caregiver program participants. The Evaluation of the Administration for Community Living's American Indian, Alaska Natives and Native Hawaiian Programs will allow ACL/AoA to document the value of the Title VI programs for individuals, families, communities and Tribes/Tribal Organizations. ACL estimates the annual burden of this collection of information as follows:

The proposed data collection tools may be found on the ACL Web site at: https://www.acl.gov/about-acl/policy-and-regulations.

Respondent type | Form name | Number of annual respondents | Number of responses per respondent | Average burden (in hours) per response | Annual burden hours ¹
Program director | Program staff interview | 10 | 1 | 1 | 10
Program director | Program staff focus group moderator guide | 10 | 1 | 2 | 20
Other Program Staff | Tribal program staff focus group moderator guide | 10 | 1 | 1 | 10
Other Program Staff | Tribal program staff focus group moderator guide | 10 | 1 | 2 | 20
Tribal elder | Tribal elder focus group moderator guide | 100 | 1 | 2 | 200
Tribal elder | Tribal elder interview | 20 | 1 | 1 | 20
Caregiver | Tribal caregiver focus group moderator guide | 87 | 1 | 2 | 174
Caregiver | Tribal caregiver survey | 98 | 1 | 0.42 | 41
Total |  | 335 |  |  | 495
¹ Rounded to the nearest whole number.

Comments in Response to the 60-Day Federal Register Notice

In response to the 60-day Federal Register notice related to this proposed data collection and published on February 23, 2017, vol. 82, No. 35; pp. 11472-11473. No public comments to the evaluation materials were received, however; in an effort to maintain consistency between evaluation instruments, ACL has decided to change some of the wording and response options to Question 37 in the Tribal caregiver survey. This is in keeping with ACL's National Family Caregiver Support Program Evaluation Caregiver Survey as well as the National Evaluation of the Title III-C Services Client Outcomes Survey CAPI Questionnaire and does not substantively change the information being collected.

Dated: June 13, 2017.
Daniel P. Berger,
Acting Administrator and Assistant Secretary for Aging.

[FR Doc. 2017-12748 Filed 6-19-17; 8:45 am]

BILLING CODE 4154-01-P